DEPARTMENT OF THE TREASURY

Office of Foreign Assets Control

Sanctions Actions Pursuant to Executive Order 13224

AGENCY: Office of Foreign Assets Control, Treasury.

ACTION: Notice.

SUMMARY: The Treasury Department's Office of Foreign Assets Control (OFAC) is publishing the name of one individual and supplemental information for four individuals whose property and interests in property are blocked pursuant to Executive Order (E.O.) 13224 and whose names have been added to OFAC's list of Specially Designated Nationals and Blocked Persons (SDN List). OFAC is also removing the name of one individual, whose property and interests in property were blocked pursuant to Executive Order 13224, from the list of SDN List.

DATES: OFAC's actions described in this notice were effective June 24, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treas.gov/ofac). Certain general information pertaining to OFAC's sanctions programs is also available via facsimile through a 24-hour fax-on-demand service, tel.: 202/622-0077.

Notice of OFAC Actions

On June 24, 2015, OFAC blocked the property and interests in property of the following individual pursuant to E.O. 13224, “Blocking Property and Prohibiting Transactions With Persons Who Commit, Threaten To Commit, or Support Terrorism”:

RASHID BALUCH, Abdul (a.k.a. RASHID BAHRAWI, Abdul; a.k.a. RASHID BALOCH, Abdul; a.k.a. RASHID, Abdul; a.k.a. RASHID, Hafiz Abdul; a.k.a. RASHID, Mullah Abdul; a.k.a. RASHID, Qari Abdul), Dalbandin, Balochistan Province, Pakistan; Afghanistan; DOB 1970 to 1972; POB Dishu District, Helmand Province, Afghanistan; Maulawi (individual) [SDGT]

OFAC supplemented the identification information for four individuals whose property and interests in property are blocked pursuant to Executive Order 13224. The supplemental identification information for the individuals is as follows:

1. ABDUL MAJID, Afif (a.k.a. ABDUL AL MAJID, Afif; a.k.a. ABDUL MADJID, Afif; a.k.a. BIN ABDUL MADJID, Afief; a.k.a. BIN ABDUL MAJID, Afif); DOB 26 Apr 1952; POB Pacitan, East Java, Indonesia; nationality Indonesia (individual) [SDGT]

2. RUSDAN, Abu (a.k.a. “ABU THORIQ”; a.k.a. “RUSDJAN”; a.k.a. “RUSJAN”; a.k.a. “RUSYDAN”; a.k.a. “THORIQUDDIN”; a.k.a. “THORIQUIDDIN”; a.k.a. “THORIQUIDIN”; a.k.a. “TORIQUDDIN”); DOB 16 Aug 1960; POB Kudus, Central Java, Indonesia; citizen Indonesia; National ID No. 1608600001 (Indonesia) (individual) [SDGT]

3. SYAWAL, Yassin (a.k.a. IDA, Laode; a.k.a. KHAN, Mohd Shahwal; a.k.a. MOCHTAR, Yasin Mahmud; a.k.a. MUBARAK, Laode Agussalim; a.k.a. MUBAROK, Muhamad; a.k.a. MUHAMMAD, Ustad Haji Laudi Agus Salim; a.k.a. SYAWAL, Muhammad; a.k.a. YASIN, Abdul Hadi; a.k.a. YASIN, Salim; a.k.a. YASIN, Syawal; a.k.a. “ABU MUAMAR”; a.k.a. “ABU SETA”; a.k.a. “AGUS SALIM”; a.k.a. “MAHMUD”); DOB 03 Sep 1962; POB Makassar, Indonesia; nationality Indonesia; citizen Indonesia (individual) [SDGT]

4. AMEEN AL-PESHAWARI, Fazeel-A-Tul Shaykh Abu Mohammed (a.k.a. AL-BISHAURI, Abu Mohammad Shaykh Aminullah; a.k.a. AL-PESHAWARI, Shaykh Abu Mohammed Ameen; a.k.a. AL-PESHAWARI, Shaykh Aminullah; a.k.a. BISHAWRI, Abu Mohammad Amin; a.k.a. GUL AL-PAKISTANI, Niaz Muhammad Muhammada; a.k.a. MUHAMMAD, Niaz; a.k.a. PESHAWARI, Abu Mohammad Aminullah; a.k.a. “AMINULLAH, Shaykh”; a.k.a. “AMINULLAH, Sheik”; a.k.a. “SHAYKH AMEEN”), Ganj District, Peshawar, Khyber Pakhtunkhwa, Pakistan; House number T-876 Galli Mohallah, Sheikh Abad number 4, Peshawar, Khyber Pakhtunkhwa, Pakistan; Saudi Arabia; DOB circa 01 Jan 1961; POB Shunkrai village, Sarkani District, Konar Province, Afghanistan; Passport FU0152122 (Pakistan) expires 24 Apr 2017; alt. Passport FU0152121 (Pakistan) (Linked To: JAMIA TALEEM-UL-QURAN-WAL-HADITH MADRASSA; Linked To: TALIBAN; Linked To: LASHKAR E-TAYYIBA) (individual) [SDGT]

OFAC removed the following individual from the SDN List:

BIN MUHADJIR, Son Hadi (a.k.a. BIN MUHADJR, Son Hadi; a.k.a. BIN MUJAHIR, Son Hadi; a.k.a. MUHADJIR, Son bn Hadi), Jalan Raya Gongdanglegi, RT/RW 1/13, Cangkring Malang, Beji, Pasuran 67154, Indonesia; DOB 12 May 1971; POB Pasuran, East Java, Indonesia; nationality Indonesia; Passport R057803 (Indonesia); National ID No. 3514131205710004 (Indonesia) (individual) [SDGT].

Dated: June 24, 2015.
John E. Smith,
Acting Director, Office of Foreign Assets Control.

[FR Doc. 2015-16328 Filed 7-1-15; 8:45 am]

BILLING CODE 4810-AL-P